DEPARTMENT OF TRANSPORTATION

Federal Railroad Administration

[Docket No. FRA-2011-0027; Notice No. 5]

Northeast Corridor Safety Committee; Notice of Meeting

AGENCY: Federal Railroad Administration (FRA), Department of Transportation (DOT).

ACTION: Announcement of a Northeast Corridor Safety Committee (NECSC) meeting.

SUMMARY: FRA announces the third meeting of the NECSC, a Federal Advisory Committee mandated by Section 212 of the Passenger Rail Investment and Improvement Act of 2008 (PRIIA). The Committee is made up of stakeholders operating on the Northeast Corridor (NEC), and the purpose of the Committee is to provide annual recommendations to the Secretary of Transportation. The NECSC meeting topics will include: Status of the frequency spectrum recommendation to the Secretary of Transportation, impacts of Hurricane Sandy on NEC infrastructure and lessons learned, and a general discussion of safety issues.

DATES: The NECSC meeting is scheduled to commence at 9 a.m. on Wednesday, January 30, 2013, and will adjourn by 4:30 p.m.

ADDRESSES: The NECSC meeting will be held at the Sonesta Hotel (formerly Crown Plaza Philadelphia Downtown), 1800 Market Street, Philadelphia, PA 19103. The meeting is open to the public on a first-come, first-served basis, and is accessible to individuals with disabilities. Sign and oral interpretation can be made available if requested 10 calendar days before the meeting.

FOR FURTHER INFORMATION CONTACT: Mr. Larry Woolverton, NECSC Administrative Officer/Coordinator, FRA, 1200 New Jersey Avenue SE., Mailstop 25, Washington, DC 20590, (202) 493-6212; or Jo Strang, Associate Administrator for Railroad Safety/Chief Safety Officer, FRA, 1200 New Jersey Avenue SE., Mailstop 25, Washington, DC 20590, (202) 493-6300.

SUPPLEMENTARY INFORMATION: The NECSC is mandated by a statutory provision in Section 212 of the PRIIA (codified at 49 U.S.C. 24905(f)). The Committee is chartered by the Secretary of Transportation and is an official Federal Advisory Committee established in accordance with the provisions of the Federal Advisory Committee Act, as amended (codified at 5 U.S.C. Title 5—Appendix).

Issued in Washington, DC, on December 5, 2012.
Jo Strang,
Associate Administrator for Railroad Safety/Chief Safety Officer.

[FR Doc. 2012-29834 Filed 12-10-12; 8:45 am]

BILLING CODE 4910-06-P